FEDERAL COMMUNICATIONS COMMISSION

47 CFR Part 73

[DA 03-1148, MB Docket No. 03-20, RM-10634]

Television Broadcast Service; Christiansted, VI

AGENCY: Federal Communications Commission.

ACTION: Final rule.

SUMMARY: The Commission, at the request of Virgin Blue, Inc., substitutes channel 39 for channel 27 at Christiansted, Virgin Islands. See 68 FR 4158, January 28, 2003. TV channel 39 can be allotted to Christiansted, Virgin Islands, with a zero offset in compliance with the principal community coverage requirements of Section 73.610 at coordinates 17-44-53 N. and 64-43-40 W. With this action, this proceeding is terminated.

DATES: Effective June 9, 2003.

FOR FURTHER INFORMATION CONTACT: Pam Blumenthal, Media Bureau, (202) 418-1600.

SUPPLEMENTARY INFORMATION: This is a synopsis of the Commission's Report and Order, MB Docket No. 03-20, adopted April 14, 2003, and released April 23, 2003. The full text of this document is available for public inspection and copying during regular business hours in the FCC Reference Information Center, Portals II, 445 12th Street, SW., Room CY-A257, Washington, DC 20554. This document may also be purchased from the Commission's duplicating contractor, Qualex International, Portals II, 445 12th Street, SW., Room CY-B402, Washington, DC 20554, telephone (202) 863-2893, facsimile (202) 863-2898, or via-e-mail qualexint@aol.com.

List of Subjects in 47 CFR Part 73

Television broadcasting.

Part 73 of Title 47 of the Code of Federal Regulations is amended as follows:

PART 73—[AMENDED]

1. The authority citation for Part 73 continues to read as follows:

Authority: 47 U.S.C. 154, 303, 334 and 336.

§ 73.606 [Amended]

2. Section 73.606(b), the Table of Television Allotments under Virgin Islands, is amended by removing TV channel 27 and adding TV channel 39 at Christiansted.

Federal Communications Commission.
Barbara A. Kreisman,
Chief, Video Division, Media Bureau.

[FR Doc. 03-11153 Filed 5-5-03; 8:45 am]

BILLING CODE 6712-01-P